DEPARTMENT OF HOMELAND SECURITY

Agency Information Collection Activities: Proposed Collection; Comment Request

AGENCY: Federal Emergency Management Agency, Emergency Preparedness and Response Directorate, Homeland Security.

ACTION: Notice and request for comments.

SUMMARY: The Federal Emergency Management Agency, as part of its continuing effort to reduce paperwork and respondent burden, invites the general public and other Federal agencies to take this opportunity to comment on proposed revised information collections. In accordance with the Paperwork Reduction Act of 1995 (44 U.S.C. 3506(c)(2)(A)), this notice seeks comments concerning registration intake for the Disaster Assistance Registration information collection.

SUPPLEMENTARY INFORMATION: The legal basis for the collection of information in support of the applicant as well as administrative policy is contained in the Robert T. Stafford Disaster Relief and Emergency Assistance Act, Public Law 93-288, as amended, and 44 Code of Federal Regulations (44 CFR) part 206. In support of disaster victims, it is the policy of FEMA to provide an orderly and continuing means of assistance by the Federal Government to State and local governments, in carrying out their responsibilities to alleviate the suffering and damage that result from major disasters and emergencies. In addition FEMA complies with the provisions of Title IV of the Personal Responsibility and Work Opportunity Reconciliation Act of 1996, Title 8 United States Code, sections 1601 et seq., with respect to determination of eligibility or disaster assistance for applicants who are not U.S. citizens.

Collection of Information

Title: Disaster Assistance Registration.

Type of Information Collection: Revision of a currently approved collection.

OMB Number: 1660-0002.

Form Numbers: FEMA Forms 90-69 (English), 90-69A (Spanish), Application Registration for Disaster Assistance, and FEMA Forms 90-69B (English), 90-69C (Spanish), Declaration and Release.

Abstract: The information serves as the application for FEMA's Individuals and Households Program with regard to Housing Assistance and Other Needs Assistance and is relayed to other Federal and State agencies administering disaster relief programs appropriate to the applicants needs. Without this information, eligibility for disaster assistance cannot be determined. The information is obtained by telephone calls to the Teleregistration Center or from a face-to-face interview. Applicants are provided a statement regarding the privacy act and they sign a statement certifying the accuracy of their information.

Affected Public: Individuals or Households; Federal Government; State, Local or Tribal Governments; Business or Other For-Profit; Not-For-Profit Institutions; Farms.

Estimated Total Annual Burden Hours:

FEMA forms | No. of respondents (A) | Frequency of response (B) | Hours per response (C) | Annual burden hours (A × B × C)
90-69, 90-96A | 482,584 | 1 | 19 min. | 152,818
90-69B, 90-69C | 308,884 (65% of responses are inspected) | 1 | 2 min. | 10,295
Total | 482,584 |  | 21 min. | 163,113

Estimated Cost: The total estimated annual cost to the applicant for FEMA Forms 90-69, 90-69A, 90-69B, and 90-69C is $978,678. The cost is determined by the average hourly rate of $6.00 per respondent times the estimated 163,113 burden hours.

Cost to the Federal Government regarding the forms pertain to three main activities: (1) Cost for Contract Inspectors to obtain signatures on the 90-69B, Declaration and Release, form. Cost estimates are computed by using the Contractor hourly rate of $45 times the average of two minutes to obtain the signature from the applicant times the projected number of respondents who actually receive an inspection (308,854) for an estimated total annual cost of $463,275. (2) Cost to take the electronic registrations in NEMIS computed by using the Registrar's hourly rate of GS 5/1, $12.50 plus the cost estimate for NEMIS per hour of $5.29 = $17.79 times the projected annual burden hours for ninety-five percent of the projected annual respondents (145,177), for an estimated total annual cost of $2,582,699. (3) Cost to enter paper applications into NEMIS are computed by using the Registrar's hourly rate of GS 5/1, $12.50 plus the cost estimate for NEMIS per hour of $5.29 = $17.79 times the projected annual burden hours for five percent of the projected annual paper form respondents (3,217), for an estimated total annual cost of $57,230.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Kathy Fields, Chief, National Processing Service Center, Recovery Division, Federal Emergency Management Agency, Emergency Preparedness and Response Directorate, Department of Homeland Security at (940) 891-8501 for additional information. You may contact Ms. Anderson for copies of the proposed collection of information at (202) 646-2625, facsimile number (202) 646-3347, or e-mail address: InformationCollections@fema.gov.

Dated: April 16, 2003.
Edward W. Kernan,
Division Director, Information Resources Management Division, Information Technology Services Directorate.

[FR Doc. 03-10233 Filed 4-24-03; 8:45 am]

BILLING CODE 6718-01-P